FEDERAL COMMUNICATIONS COMMISSION

[Report No. 2617]

Petitions for Reconsideration and Clarification of Action in Rulemaking Proceedings

July 22, 2003.

Petitions for Reconsideration and Clarification have been filed in the Commission's Rulemaking proceedings listed in this Public Notice and published pursuant to 47 CFR section 1.429(e). The full text of this document is available for viewing and copying in Room CY-A257, 445 12th Street, SW., Washington, DC or may be purchased from the Commission's copy contractor, Qualex International (202) 863-2893. Oppositions to these petitions must be filed by August 20, 2003. See Section 1.4(b)(1) of the Commission's rules (47 CFR 1.4(b)(1)). Replies to an opposition must be filed within 10 days after the time for filing oppositions have expired.

Subject: In the Matter of the Commission's Rules to Create a Low Frequency Allocation for the Amateur Radio Service (ET Docket No. 02-98, RM-9404).

Number of Petitions Filed: 1.

Subject: In the Matter of Flexibility for Delivery of Communications by Mobile Satellite Service Providers in the 2 GHz Band, the L-Band, and the 1.6/2.4 GHz Bands (IB Docket No. 01-185).

Review of the Spectrum Sharing Plan Among Non-Geostationary Satellite Orbit Mobile Satellite Service Systems in the 1.6/2.4 GHz Bands (IB Docket No. 02-364).

Number of Petitions Filed: 7.

Marlene H. Dortch,
Secretary.

[FR Doc. 03-19804 Filed 8-4-03; 8:45 am]

BILLING CODE 6712-01-M